DEPARTMENT OF TRANSPORTATION

National Highway Traffic Safety Administration

[Docket No. NHTSA-2021-0085]

Agency Information Collection Activities; Submission to the Office of Management and Budget for Review and Approval; Request for Comment; Driver Alcohol Detection System for Safety Field Operational Test

AGENCY: National Highway Traffic Safety Administration (NHTSA), Department of Transportation (DOT).

ACTION: Notice and request for comments on an extension of a currently approved information collection.

SUMMARY: In compliance with the Paperwork Reduction Act of 1995 (PRA), this notice announces that the Information Collection Request (ICR) summarized below will be submitted to the Office of Management and Budget (OMB) for review and approval. The ICR describes the nature of the information collection and its expected burden. This document describes the collection of information for which NHTSA intends to seek OMB approval to allow NHTSA to continue to conduct research on the development of a driver alcohol detection system. NHTSA is seeking an extension of the information collection, titled “Driver Alcohol Detection System for Safety Field Operational Test” (OMB Control Number 2127-0734), which is currently approved through March 31, 2022. The extension is necessary to complete data collection that was delayed due to COVID-19 restrictions. The burden hour and cost calculations have been adjusted to reflect only the remaining data collection, adjustments for recruitment based on current experience, and adjustments in participation based on current experience. A Federal Register Notice with a 60-day comment period soliciting comments on the following information collection was published on December 30, 2021. One comment was received in response to this notice.

DATES: Comments must be submitted on or before April 14, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Eric Traube, Vehicle Safety Research, Human Factors/Engineering Integration Division (NSR-310), (202) 366-5673, National Highway Traffic Safety Administration, W46-424, U.S. Department of Transportation, 1200 New Jersey Avenue SE, Washington, DC 20590. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Driver Alcohol Detection System for Safety Field Operational Test.

OMB Control Number: 2127-0734.

Form Number: None.

Type of Request: Extension of a currently approved information collection.

Type of Review Requested: Regular.

Length of Approval Requested: Three years.

Summary of the Collection of Information: NHTSA and the Automotive Coalition for Traffic Safety (ACTS) began research in February 2008 to try to find potential in-vehicle approaches to the problem of alcohol-impaired driving. Members of ACTS comprise motor vehicle manufacturers representing approximately 99 percent of light vehicle sales in the U.S. This cooperative research partnership, known as the Driver Alcohol Detection System for Safety (DADSS) Program, is exploring the feasibility, the potential benefits of, and the public policy challenges associated with a more widespread use of non-invasive technology to prevent alcohol-impaired driving. The 2008 cooperative agreement between NHTSA and ACTS for Phases I and II outlined a program of research to assess the state of detection technologies that are capable of measuring blood alcohol concentration (BAC) or Breath Alcohol Concentration (BrAC). The 2008 cooperative agreement and a subsequent 2013 cooperative agreement support the creation and testing of prototypes and subsequent hardware that could be installed in vehicles. As part of this research program, and pursuant to the 2013 cooperative agreement, NHTSA and ACTS developed both breath- and touch-based sensors to evaluate the potential implementation and integration of both breath-and touch-based sensor technologies. The sensors are to be integrated into a vehicle in a manner that does not significantly alter the appearance of the vehicle interior. Further research is needed to evaluate the potential implementation and integration of both breath- and touch-based sensor technologies.

The purpose of this information collection is to collect data needed to evaluate the functionality of the touch- and breath- based sensors in varying operating conditions by having study participants provide breath and touch samples in DADSS research vehicles equipped with the sensors. Although the sensors will undergo significant laboratory testing, it is necessary to evaluate their function in extreme real-world environmental conditions to ensure that they will be operational for the harshest conditions that the sensors will encounter.

The sensor-equipped research vehicles are used to gather data regarding sensor validity and reliability, as well as assess the real-world use of the sensors with human participants in varying environmental conditions, such as weather conditions, road conditions, temperatures, altitudes, air conditioner or heater status, window up or down, etc. These are the first vehicles ever to be equipped with systems designed to be unobtrusive that can measure driver alcohol levels. As such, it represents the first opportunity for researchers to gain an understanding of the use of the sensors in the operational context for which they were designed. Data collected from the study's Field Operational Test (FOT or DADSS FOT) will be used to further refine the DADSS Performance Specifications and evaluate subsystem/sensor performance.

The collection of information consists of: (1) An eligibility interview with COVID screening questions and COVID test, (2) a multi-day FOT of DADSS sensors, and (3) a post-test-day questionnaire. NHTSA is currently collecting information for the study and the data collection is ongoing. Extension of the study is necessary due to COVID-related delays which paused data collection for a period of time and during development of new COVID precautions.

Description of the Need for the Information and Proposed Use of the Information

60-Day Notice: A Federal Register notice with a 60-day comment period soliciting public comments on the following information collection was published on December 30, 2021 (89 FR 74427).

NHTSA received one comment in response to this notice. Mothers Against Drunk Driving (MADD) “supports NHTSA's request for an extension of the information collection.” They further urge action to help meet the deadline mandated in the advanced technology provisions of the Infrastructure Investment and Jobs Act calling for the Agency to mandate that drunk and impaired driving prevention technology become standard equipment in all new passenger motor vehicles. MADD recognizes the timing of completion of NHTSA efforts and “adherence to the deadline mandated in the law is vital to the lives of the American public.” NHTSA appreciates the time and consideration of MADD in responding to the 60-day Federal Register notice.

Affected Public: General Public.

Estimated Number of Respondents: 2,787.

When NHTSA sought approval for the currently approved information collection, it described its plan for collecting data from 480 unique respondents. In order to recruit 480 participants who would complete the field operational test, NHTSA estimated that 600 respondents would need to complete the initial eligibility screening (a 75% recruitment rate). Based on experience, NHTSA has found that the actual recruitment rate is much lower than anticipated. As of August 31, 2021, 62 participants had been successfully recruited and participated in the FOT. Successful recruitment involved a screening of 420 individuals, for a recruitment rate of 15 percent. Since NHTSA needs to recruit 418 more participants, NHTSA estimates that the research team would need to screen 2,787 individuals.

Frequency: Varies.

There are four different components to this information collection and the frequency for response varies across the components: The initial eligibility screening is conducted one-time; the full orientation is conducted one-time; the health screening is conducted each time that an individual participates in the FOT; and the FOT is conducted as many times as the individual wishes, up to 60 times.

Number of Responses: Varies.

Each of the different components in this information collection has a different number of responses: The initial eligibility screening is estimated at 2,787 responses; the full orientation is estimated at 418 responses; the health screening is estimated at 468 responses; and the FOT is estimated at 890 responses.

Estimated Total Annual Burden Hours: 3,249.

When NHTSA originally obtained clearance for this ICR, the agency did not expect to need to renew the collection. Instead, it was expected that the data collection would have been completed within the three-year clearance period. However, COVID-19 delayed the research effort, necessitating this request for extension. Accordingly, NHTSA is requesting an extension of this currently approved information collection for the portion of the planned data collection that still needs to be completed. As of August 31, 2021, collection is complete for 62 participants of the necessary 480 participants. Therefore, NHTSA is requesting approval for the collection of information from 418 remaining participants and individuals screened in order to recruit the 418 participants. In estimating the burden of this collection, NHTSA has made adjustments, based on its experience with recruitment and data collection under the current collection, to its estimates for numbers of screenings, duration associated with information collection, and frequency of data collection of various phases of the study. NHTSA has also added new COVID-19 screening questions and a COVID-19 test requirement for the safety of both researchers and study participants. These new COVID-19 safety measures will be carried out in accordance with CDC guidelines and the data from the screening questions and tests will not be retained nor used for analytic purposes.

When NHTSA originally sought approval for this research study, it estimated that each initial eligibility/demographic interview would take approximately 15 minutes. With experience, NHTSA is now revising the estimate to be 30 minutes. NHTSA is also revising its burden estimates to include time for health screenings each time a respondent participates in the FOT after their first day. On the first day, participants will go through a full orientation, which is expected to last 1 hour and includes both a health screening and in-vehicle instruction. NHTSA estimates that the health screening portion takes approximately 30 minutes.

NHTSA originally estimated burdens associated with this collection assuming that each participant would complete the FOT 60 times. This was based on the maximum amount of participation. However, based on the experience of the data collection through August 31, 2021, participants are, on average, completing the FOT 2.13 times. Of the 62 participants who have completed the FOT thus far, 27 participated only once. The remaining 35 participated an average of 3 times each. Using this average, NHTSA estimates that the remaining 418 participants will complete a total of 890 operational tests.

Based on experience, NHTSA has also revised the estimated burden hours for the FOT. NHTSA now estimates the average duration of the pre-drive, drive, and post-drive recovery to be five hours (this estimate does not include orientation time, which is estimated separately).

NHTSA has also revised estimates to include the time for test-day questions in the burden estimate for FOT. These questions were counted separately in the initial ICR. However, the question responses are collected during the post-drive recovery time and included in the average time for participants in the FOT portion of the study.

NHTSA estimates the total burden for the remaining data collection to be 6,498 hours. The research team expects the data collection to take place over 24 months, for an average of 3,249 hours per year. This is longer than initially estimated due to observed difficulty in recruitment.

NHTSA estimates the opportunity cost associated with this information collection using the median hourly wage for the Southwest Virginia nonmetropolitan area of $15.34 per hour for all occupations,¹ resulting in a total opportunity cost of $99,679.32 and an annual opportunity cost of $49,839.66.

¹ Occupational Employment and Wage Statistics. May 2020 Metropolitan and Nonmetropolitan Area Occupational Employment and Wage Estimates-Southwest Virginia nonmetropolitan area. U.S. Bureau of Labor Statistics. https://www.bls.gov/oes/2020/may/oes_5100001.htm. Last Accessed 12/27/21.

Table 1 provides a summary of the remaining burden hours for this information collection.

Table 1—Estimated Burden Hours and Associated Opportunity Costs
Instrument | Number of responses | Number of respondents | Duration | Estimated burden hours | Cost per hour | Estimated opportunity cost
Eligibility/Demographic Interview | 2,787 | 2,787 | 30 min (0.5 hrs) | 1,393.5 | $15.34 | $21,376.29
Full Orientation | 418 | 418 | 1 hour | 418 | 15.34 | 6,412.12
Health Screening Only | 468 | 234 | 30 min (0.5 hrs) | 234 | 15.34 | 3,589.66
Field Operational Test | 890 | 418 | 5 hours | 4,452 | 15.34 | 68,293.68
Total (covering a 24-month period) |  |  |  | 6,497.5 (6,498) |  | 99,679.32
Estimated Annual Burden |  |  |  | 3,249 |  | 49,839.66

The 30-day Federal Register notice contained errors in the estimated opportunity cost for the Full Orientation, Health Screening Only, and Field Operational Test. Those errors were typographical, did not affect the calculations for total, and have been corrected in this notice.

Estimated Total Annual Burden Cost: $0.

NHTSA estimates that there are no additional costs to respondents beyond those associated with opportunity cost. To offset these costs, NHTSA is paying respondents who participate in the FOT $19.50 per hour.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29.

Cem Hatipoglu,
Associate Administrator, Vehicle Safety Research.

[FR Doc. 2022-05418 Filed 3-14-22; 8:45 am]

BILLING CODE 4910-59-P